DEPARTMENT OF THE INTERIOR

Fish and Wildlife Service

Receipt of Applications for Permit

AGENCY: Fish and Wildlife Service, Interior.

ACTION: Notice of receipt of applications for permit.

SUMMARY: The public is invited to comment on the following applications to conduct certain activities with endangered species and/or marine mammals.

DATES: Written data, comments or requests must be received by April 6, 2005.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 700, Arlington, Virginia 22203; fax 703/358-2281.

FOR FURTHER INFORMATION CONTACT: Division of Management Authority, telephone (703) 358-2104.

SUPPLEMENTARY INFORMATION:

Endangered Species

The public is invited to comment on the following applications for a permit to conduct certain activities with endangered species. This notice is provided pursuant to Section 10(c) of the Endangered Species Act of 1973, as amended (16 U.S.C. 1531, et seq.). Written data, comments, or requests for copies of these complete applications should be submitted to the Director (address above).

Applicant: Leon Barringer, Monument, CO, PRT-099123

The applicant requests a permit to export one male captive-born tiger (Panthera tigris) to the Baghdad Zoo, Iraq, for the purpose of enhancement of the survival of the species through conservation education.

Applicant: Zoological Society of San Diego, Escondido, CA, PRT-098763

The applicant requests a permit to export biological samples from Northern white rhinoceros (Ceratotherium simum cottoni) to the Dvur Kralove Zoo, Dvur Kralove, Czech Republic, for the purpose of enhancement of the survival of the species through captive propagation. This notification covers activities to be conducted by the applicant over a five-year period.

Applicant: Cynthia J. Lagueux, Wildlife Conservation Society, Gainesville, FL, PRT-781606

The applicant requests a renewal of their permit to import biological samples from Hawksbill sea turtles (Eretmochelys imbricata) and Leatherback sea turtles (Dermochelys coriacea) collected in the wild in Nicaragua, for scientific research. This notification covers activities to be conducted by the applicant over a five-year period.

Applicant: Thane Wibbels, University of Alabama, Birmingham, AL, PRT-841026

The applicant requests a renewal of their permit to import biological samples from Kemp's ridley sea turtles (Lepidochelys kempii) collected in the wild in Mexico, for scientific research. This notification covers activities to be conducted by the applicant over a five-year period.

Dated: February 18, 2005.
Michael S. Moore,
Senior Permit Biologist, Branch of Permits, Division of Management Authority.

[FR Doc. 05-4354 Filed 3-4-05; 8:45 am]

BILLING CODE 4310-55-P